DEPARTMENT OF ENERGY

Office of Science; Biological and Environmental Research Advisory Committee

AGENCY: Department of Energy, (DOE).

ACTION: Notice of open teleconference meeting.

SUMMARY: This notice announces a teleconference meeting of the Biological and Environmental Research Advisory Committee. Federal Advisory Committee Act (Pub. L. 92-463, 86 Stat. 770) requires that public notice of these meetings be announced in the Federal Register.

DATES: Friday, October 7, 2005, 4 p.m. to 6 p.m. E.D.T.

ADDRESSES: Participants may call Ms. Joanne Corcoran at (301) 903-6488 to receive a call-in number by October 5, 2005. Public participation is welcomed; however, the number of teleconference lines is limited and available on a first come basis.

FOR FURTHER INFORMATION CONTACT: Dr. David Thomassen, Designated Federal Official, Biological and Environmental Research Advisory Committee, U.S. Department of Energy, Office of Science, Office of Biological and Environmental Research, SC-23/Germantown Building, 1000 Independence Avenue, SW., Washington, DC 20585-1290, (301) 903-9817 or david.thomassen@science.doe.gov.

SUPPLEMENTARY INFORMATION: Purpose of the Meeting: To provide advice on a continuing basis to the Director, Office of Science of the Department of Energy, on the many complex scientific and technical issues that arise in the development and implementation of the Biological and Environmental Research Program.

Tentative Agenda:

• Discussion of BERAC subcommittee report on the review of the Environmental Molecular Sciences Laboratory. See complete BERAC Charge dated November 18, 2004.

• Discussion of BERAC subcommittee report on the value of the Genomics: GTL Facility for the Production of Proteins and Molecular Tags. See complete BERAC Charge dated August 15, 2005.

• Discussion of BERAC subcommittee report on the advantages and disadvantages of establishing more than one program in a particular technology at one of the Department's light sources and in particular the potential rationale for supporting the further development of the X4A and X4C beam lines at the National Synchrotron Light Source. See complete BERAC Charge dated January 14, 2005.

• New business

• Public Comment

Copies of the Charge letters may be found at http://www.sc.doe.gov/ober/berac/charges.html. All BERAC reports, once approved, are posted on the BERAC Web site at http://www.science.doe.gov/ober/berac/Reports.html.

Public Participation: The teleconference meeting is open to the public. If you would like to file a written statement with the Committee, you may do so either before or after the meeting. If you would like to make oral statements regarding any of the items on the agenda, you should contact David Thomassen at the address or telephone number listed above. You must make your request for an oral statement at least five business days before the meeting. Reasonable provision will be made to include the scheduled oral statements on the agenda. The Chairperson of the Committee will conduct the meeting to facilitate the orderly conduct of business. Public comment will follow the 10-minute rule.

Minutes: The minutes of this meeting will be available for public review and copying within 30 days at the Freedom of Information Public Reading Room, IE-190, Forrestal Building, 1000 Independence Avenue, SW., Washington, DC, between 9 a.m. and 4 p.m., Monday through Friday, except Federal holidays.

Issued in Washington, DC on September 16, 2005.
Rachel M. Samuel,
Deputy Advisory Committee, Management Officer.

[FR Doc. 05-18942 Filed 9-21-05; 8:45 am]

BILLING CODE 6450-01-P